DEPARTMENT OF LABOR

Employment and Training Administration

[TA-W-53,735]

Phillips Plastics Corporation, Multi Shot Facility, Eau Claire, WI; Notice of Negative Determination on Reconsideration

On March 5, 2004, the Department issued an Affirmative Determination Regarding Application for Reconsideration for the workers and former workers of the subject firm. The Department published the Notice in the Federal Register on March 16, 2004 (69 FR 12351).

The initial Trade Adjustment Assistance petition, dated December 4, 2003, was filed on behalf of workers at Phillips Plastics Corporation, Eau Claire, Wisconsin. The petition was denied based on no sales decline, no company imports and no shift of production during the relevant time period.

In a letter dated February 6, 2004, the petitioner requested administrative reconsideration of the Department's negative determination. The petitioner alleged that production declined during October-December 2003, that sales may decline in 2004 from previous levels, and that 2003 sales declined from 2002 levels.

The relevant time period of the investigation is one year prior to the date of the petition through the date of the decision. Therefore, events which occur outside the relevant time period cannot be considered.

The Department conducted an investigation to determine whether subject company production of molded parts declined during the relevant time period. The investigation revealed that while production decline during October-December 2003 as alleged, the decline occurred in only one month and increased in the other two months as compared to the corresponding time period in 2002. The investigation also revealed that while production fluctuated during 2003, overall production for 2003 was greater then overall production for 2002.

Petitioner's allegation of sales declines in 2004 was not investigated because it falls outside the relevant time period and therefore cannot be considered.

The Department also investigated whether subject facility sales declined in 2003 from 2002 levels. The investigation revealed that sales increased in 2003 from 2002 levels.

Conclusion

After reconsideration, I affirm the original notice of negative determination of eligibility to apply for worker adjustment assistance for workers and former workers of Phillips Plastics Corporation, Eau Claire, Wisconsin.

Signed at Washington, DC, this 5th day of May, 2004.
Elliott S. Kushner,
Certifying Officer, Division of Trade Adjustment Assistance.

[FR Doc. 04-12381 Filed 6-1-04; 8:45 am]

BILLING CODE 4510-30-P